FEDERAL COMMUNICATIONS COMMISSION

47 CFR Parts 10 and 11

[WC Docket No. 10-90, CC Docket No. 01-92; Report No. 3062]

Petition for Reconsideration of Action in Rulemaking Proceeding

AGENCY: Federal Communications Commission.

ACTION: Petition for reconsideration.

SUMMARY: A Petition for Reconsideration (Petition) has been filed in the Commission's rulemaking proceeding by Russell M. Blau, on behalf of Smart City Telecommunications LLP.

DATES: Oppositions to the Petition must be filed on or before January 9, 2017. Replies to an opposition must be filed on or before January 17, 2017.

ADDRESSES: Federal Communications Commission, 445 12th Street SW., Washington, DC 20554.

FOR FURTHER INFORMATION CONTACT: Victoria Goldberg, Wireline Competition Bureau, phone: (202) 418-7353; email: Victoria.Goldberg@fcc.gov.

SUPPLEMENTARY INFORMATION: This is a summary of the Commission's document, Report No. 3062, released December 13, 2016. The full text of the Petition is available for viewing and copying at the FCC Reference Information Center, 445 12th Street SW., Room CY-A257, Washington, DC 20554. It also may be accessed online via the Commission's Electronic Comment Filing System at: https://www.fcc.gov/ecfs/. The Commission will not send a copy of this document pursuant to the Congressional Review Act, 5 U.S.C. 801(a)(1)(A), because this document does not have an impact on any rules of particular applicability.

Subject: In the Matter of Connect America Fund; In the Matter of Developing a Unified Intercarrier Compensation Regime; Petitions for Waiver of § 51.917 of the Commission's Rules, FCC 16-140, released October 20, 2016, in WC Docket No. 10-90 and CC Docket No. 01-92.

Number of Petitions Filed: 1

Federal Communications Commission.
Marlene H. Dortch,
Secretary.

[FR Doc. 2016-30763 Filed 12-22-16; 8:45 am]

BILLING CODE 6712-01-P